DEPARTMENT OF HEALTH AND HUMAN SERVICES

Centers for Disease Control and Prevention

Disease, Disability, and Injury Prevention and Control Special Emphasis Panel (SEP): Initial Review

The Centers for Disease Control and Prevention (CDC) Disease, Disability, and Injury Prevention and Control Special Emphasis Panel (SEP): Initial Review, Epi-Centers for the Prevention of Healthcare-Associated Infections, Antimicrobial Resistance and Adverse Events, Funding Opportunity Announcement (FOA) CK11-0010401SUPP14, held an initial review of applications on June 3, 2014. Due to administrative oversight, a notice was not published in the Federal Register.

A notice should have published prior to May 16, 2014 according to the 15 day notice requirement of the Federal Advisory Committee Act (FACA) http://intranet.cdc.gov/maso/cmppa/pdfs/faca.pdf and the GSA Final Rule http://www.gsa.gov/graphics/ogp/FACAFinalRule_R2E-cNZ_0Z5RDZ-i34K-pR.pdf.

The intent of 15 day prior notice is to advise the public of scheduled meetings open to the public. The meeting of June 3, 2014 was a closed meeting, having met the standard for exemptions to open meeting requirements due to the personal and/or proprietary information included in grant applications. Public participation was not impacted as a result of the notice not getting published.

Contact Person for More Information: Catherine Ramadei, Acting Chief, Federal Advisory Committee Management Branch, Management Analysis and Services Office, 1600 Clifton Rd. NE., MS: K-48, Atlanta, GA 30329, email: cyr9@cdc.gov.

The Director, Management Analysis and Services Office, has been delegated the authority to sign Federal Register notices pertaining to announcements of meetings and other committee management activities, for both the Centers for Disease Control and Prevention, and Agency for Toxic Substances and Disease Registry.

Claudette Grant,
Acting Director, Management Analysis and Services Office, Centers for Disease Control and Prevention.

[FR Doc. 2014-22533 Filed 9-22-14; 8:45 am]

BILLING CODE 4163-18-P